NATIONAL AERONAUTICS AND SPACE ADMINISTRATION

[Notice (08-025)]

NASA Advisory Council; Meeting.

AGENCY: National Aeronautics and Space Administration.

ACTION: Notice of meeting.

SUMMARY: In accordance with the Federal Advisory Committee Act, Public Law 92-463, as amended, the National Aeronautics and Space Administration announces a meeting of the NASA Advisory Council. The agenda for the meeting includes updates from each of the Council committees, including discussion and deliberation of potential recommendations. The Council Committees address NASA interests in the following areas: Aeronautics, Audit and Finance, Space Exploration, Human Capital, Science, and Space Operations.

DATES: Thursday, April 17, 2008, 8:30 a.m. to 4:15 p.m.

ADDRESSES: Bienville Room, Le Pavillon Hotel, 833 Poydras Street, New Orleans, Louisiana 70112-1040.

FOR FURTHER INFORMATION CONTACT: Mr. Paul A. Iademarco, Designated Federal Official, National Aeronautics and Space Administration, Washington, DC 20546, 202/358-1318.

SUPPLEMENTARY INFORMATION: The meeting will be open to the public up to the seating capacity of the room. It is imperative that the meeting be held on this date to accommodate the scheduling priorities of the key participants.

Dated: March 17, 2008.
P. Diane Rausch,
Advisory Committee Management Officer, National Aeronautics and Space Administration.

[FR Doc. E8-5699 Filed 3-20-08; 8:45 am]

BILLING CODE 7510-13-P